DEPARTMENT OF ENERGY

Federal Energy Regulatory Commission

Combined Notice of Filings

Take notice that the Commission has received the following Natural Gas Pipeline Rate and Refund Report filings:

Filings Instituting Proceedings

Docket Number: PR18-35-000.

Applicants: Enable Oklahoma Intrastate Transmission, LLC.

Description: Tariff filing per 284.123(b),(e)+(g): Enable Revised Fuel Percentages April 1, 2018 through March 31, 2019 to be effective 4/1/2018.

Filed Date: 2/28/18.

Accession Number: 201802285114.

Comments Due: 5 p.m. ET 3/21/18.

284.123(g) Protests Due: 5 p.m. ET 4/30/18.

Docket Number: PR18-36-000.

Applicants: Columbia Gas of Ohio, Inc.

Description: Tariff filing per 284.123(b),(e)/: COH SOC Rate Change Effective 3-1-2018.

Filed Date: 3/5/18.

Accession Number: 201803055010.

Comments/Protests Due: 5 p.m. ET 3/26/18.

Docket Numbers: RP18-481-000.

Applicants: Pivotal Utility Holdings, Inc., Elkton Acquisition Corp.

Description: Joint Petition for Temporary Waiver of Commission Capacity Release Regulations and Policies, et al.

Filed Date: 2/27/18.

Accession Number: 20180227-5193.

Comments Due: 5 p.m. ET 3/12/18.

Docket Numbers: RP18-482-000.

Applicants: Pivotal Utility Holdings, Inc., ETG Acquisition Corp.

Description: Joint Petition for Temporary Waiver of Commission Capacity Release Regulations and Policies, et al.

Filed Date: 2/27/18.

Accession Number: 20180227-5194.

Comments Due: 5 p.m. ET 3/12/18.

Docket Numbers: RP18-550-000.

Applicants: Noble Energy, Inc., Fieldwood Energy LLC.

Description: Joint Petition for Temporary Waiver of Commission Policies, Capacity Release Regulations and Related Tariff Provisions.

Filed Date: 3/5/18.

Accession Number: 20180305-5380.

Comments Due: 5 p.m. ET 3/12/18.

Docket Numbers: RP18-417-001.

Applicants: Trailblazer Pipeline Company LLC.

Description: Compliance filing Compliance Filing to RP18-417-000 to be effective 3/5/2018.

Filed Date: 3/6/18.

Accession Number: 20180306-5150.

Comments Due: 5 p.m. ET 3/19/18.

Docket Numbers: RP18-551-000.

Applicants: Natural Gas Pipeline Company of America.

Description: § 4(d) Rate Filing: Negotiated Rate Agreement—Tenaska Marketing Ventures to be effective 4/1/2018.

Filed Date: 3/6/18.

Accession Number: 20180306-5046.

Comments Due: 5 p.m. ET 3/19/18.

Docket Numbers: RP18-552-000.

Applicants: Alliance Pipeline L.P.

Description: § 4(d) Rate Filing: Negotiated Rate Contracts April—October 2018 to be effective 4/1/2018.

Filed Date: 3/6/18.

Accession Number: 20180306-5074.

Comments Due: 5 p.m. ET 3/19/18.

Docket Numbers: RP18-553-000.

Applicants: Dominion Energy Cove Point LNG, LP.

Description: § 4(d) Rate Filing: DECP—Liquefaction Project Implementation (RP18-419) Update to be effective 4/1/2018.

Filed Date: 3/6/18.

Accession Number: 20180306-5143.

Comments Due: 5 p.m. ET 3/19/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 7, 2018.
Nathaniel J. Davis, Sr.,
Deputy Secretary.

[FR Doc. 2018-04991 Filed 3-12-18; 8:45 am]

BILLING CODE 6717-01-P